EXPORT-IMPORT BANK

Intent To Conduct a Detailed Economic Impact Analysis

AGENCY: Export-Import Bank.

ACTION: Notice.

SUMMARY: Pursuant to the Charter of the Export-Import Bank of the United States, this notice is to inform the public that the Export-Import Bank of the United States has received an application for a $76.6 million comprehensive loan guarantee to support the export of approximately $70 million worth of aluminum bottle manufacturing equipment to Slovenia. The U.S. exports will enable the Slovenian company to produce approximately 1.2 billion aluminum bottles per year. All new production will be sold within Europe.

DATES: Comments are due 14 days from publication in the Federal Register.

ADDRESSES: Interested parties may submit comments on this transaction electronically on www.regulations.gov, or by email to economic.impact@exim.gov.

Scott Condren,
Policy Analysis.

[FR Doc. 2020-07636 Filed 4-10-20; 8:45 am]

BILLING CODE 6690-01-P